DEPARTMENT OF LABOR

Employment and Training Administration

[TA-W-57,582 and TA-W-57,582B]

EPEC, LLC, New Bedford, MA; EPEC, LLC, Bethel, CT; Amended Notice of Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on August 16, 2005, applicable to workers of EPEC, LLC, New Bedford, Massachusetts. The notice was published in the Federal Register on September 8, 2005 (70 FR 53390).

At the request of a company official and the State agency, the Department reviewed the certification for workers of the subject firm. New information shows that worker separations have occurred involving employees of the New Bedford, Massachusetts facility of EPEC, LLC located in Bethel, Connecticut. The Bethel Connecticut workers provide support function services for the production of printed circuit boards at the New Bedford, Massachusetts location of the subject firm.

Based on these findings, the Department is amending this certification to include employees of the New Bedford, Massachusetts facility of EPEC, LLC located in Bethel, Connecticut.

The intent of the Department's certification is to include all workers of EPEC, LLC, New Bedford, Massachusetts, who were adversely affected by imports.

The amended notice applicable to TA-W-57,582 is hereby issued as follows:

All workers of EPEC, LLC, New Bedford, Massachusetts (TA-W-57,582), including employees of EPEC, LLC, New Bedford, Massachusetts located in Bethel, Connecticut (TA-W-57,582B), who became totally or partially separated from employment on or after July 15, 2004, through August 16, 2007, are eligible to apply for adjustment assistance under Section 223 of the Trade Act of 1974;

and I further determine that all workers of EPEC, LLC, New Bedford, Massachusetts (TA-W-57,582), including employees of EPEC, LLC, New Bedford, Massachusetts located in Bethel, Connecticut (TA-W-57,582B), are denied eligibility to apply for alternative trade adjustment assistance under Section 246 of the Trade Act of 1974.

Signed at Washington, DC this 20th day of April 2006.
Linda G. Poole,
Certifying Officer, Division of Trade Adjustment Assistance.

[FR Doc. E6-6814 Filed 5-4-06; 8:45 am]

BILLING CODE 4510-30-P